DEPARTMENT OF TRANSPORTATION

Federal Aviation Administration

14 CFR Part 39

[Docket No. FAA-2009-0133; Directorate Identifier 2008-NM-107-AD; Amendment 39-15933; AD 2009-12-10]

RIN 2120-AA64

Airworthiness Directives; BAE Systems (Operations) Limited Model BAe 146 and Avro 146-RJ Airplanes

AGENCY: Federal Aviation Administration (FAA), Department of Transportation (DOT).

ACTION: Final rule.

SUMMARY: The FAA is superseding an existing airworthiness directive (AD), which applies to all BAE Systems (Operations) Limited Model BAe 146 and Avro 146-RJ airplanes. That AD currently requires repetitive inspections for corrosion of frames 15, 18, 41, and 43 and applicable related investigative and corrective actions. The existing AD also provides an optional action that would extend the repetitive inspection interval. This new AD also requires a high frequency eddy current inspection for corrosion of the outer frame flanges and door hinge bosses of frames 15, 18, 41, and 43. This AD results from a report indicating that corrosion has been detected in the outer frame flanges and door hinge bosses during scheduled maintenance. We are issuing this AD to prevent reduced structural integrity of the airplane.

DATES: This AD becomes effective July 24, 2009.

The Director of the Federal Register approved the incorporation by reference of a certain publication listed in the AD as of July 24, 2009.

ADDRESSES: For service information identified in this AD, contact BAE Systems Regional Aircraft, 13850 McLearen Road, Herndon, Virginia 20171; telephone 703-736-1080; e-mail raebusiness@baesystems.com; Internet http://www.baesystems.com/Businesses/RegionalAircraft/index.htm.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Discussion

The FAA issued a notice of proposed rulemaking (NPRM) to amend 14 CFR part 39 to include an AD that supersedes AD 2006-12-09, amendment 39-14634 (71 FR 33602, June 12, 2006). The existing AD applies to all BAE Systems (Operations) Limited Model BAe 146 and Avro 146-RJ airplanes. That NPRM was published in the Federal Register on February 18, 2009 (74 FR 7565). That NPRM proposed to continue to require repetitive inspections for corrosion of frames 15, 18, 41, and 43 and applicable related investigative and corrective actions. The NPRM also proposed to continue to provide an optional action that would extend the repetitive inspection interval. In addition, the NPRM proposed to require a high frequency eddy current (HFEC) inspection for corrosion of the outer frame flanges and door hinge bosses of frames 15, 18, 41, and 43.

Comments

We provided the public the opportunity to participate in the development of this AD. No comments have been received on the NPRM or on the determination of the cost to the public.

Conclusion

We have carefully reviewed the available data and determined that air safety and the public interest require adopting the AD as proposed.

Costs of Compliance

The following table provides the estimated costs for U.S. operators to comply with this AD.

Estimated Costs
Action | Work hours | Average labor rate per hour | Cost per airplane | Number of U.S.-registered airplanes | Fleet cost
HFEC inspection, per inspection cycle (required by AD 2006-12-09) | 5 | $80 | $400 | 1 | $400
Detailed Inspection, per inspection cycle (required by AD 2006-12-09) | 3 | 80 | 240 | 1 | 240
HFEC inspection, per inspection cycle (new action) | 5 | 80 | 400 | 1 | 400

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14634 (71 FR 33602, June 12, 2006) and by adding the following new airworthiness directive (AD):

2009-12-10 BAE Systems (Operations) Limited (Formerly British Aerospace Regional Aircraft): Amendment 39-15933. Docket No. FAA-2009-0133; Directorate Identifier 2008-NM-107-AD.

Effective Date

(a) This AD becomes effective July 24, 2009.

Affected ADs

(b) This AD supersedes AD 2006-12-09.

Applicability

(c) This AD applies to all BAE Systems (Operations) Limited Model BAe 146-100A, -200A, and -300A series airplanes; and Model Avro 146-RJ70A, 146-RJ85A, and 146-RJ100A airplanes; certificated in any category.

Subject

(d) Air Transport Association (ATA) of America Code 53: Fuselage.

Unsafe Condition

(e) This AD results from a report indicating that corrosion has been detected in the outer frame flanges and door hinge bosses during scheduled maintenance. We are issuing this AD to prevent reduced structural integrity of the airplane.

Compliance

(f) You are responsible for having the actions required by this AD performed within the compliance times specified, unless the actions have already been done.

Restatement of Requirements of AD 2006-12-09

Repetitive Inspections

(g) Use high-frequency eddy current (HFEC) and detailed methods to inspect for signs of corrosion (including cracks, blistering, or flaking paint) of frames 15, 18, 41, and 43, in accordance with the Accomplishment Instructions of BAE Systems (Operations) Limited Inspection Service Bulletin ISB.53-182, dated March 16, 2005, except as required by paragraph (k) of this AD. Inspect at the applicable time specified in 1.D. “Compliance” of BAE Systems (Operations) Limited Inspection Service Bulletin ISB.53-182, dated March 16, 2005. Application of corrosion-preventive treatment, in accordance with BAE Systems (Operations) Limited Inspection Service Bulletin ISB.53-182, dated March 16, 2005; or Revision 1, dated August 6, 2007; extends the repetitive inspection interval, as specified in Table 2 in 1.D. “Compliance” of BAE Systems (Operations) Limited Inspection Service Bulletin ISB.53-182, dated March 16, 2005.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Corrective Action

(h) If any discrepancy is found during any inspection required by paragraph (g) of this AD: Before further flight, perform applicable related investigative/corrective actions in accordance with the Accomplishment Instructions of BAE Systems (Operations) Limited Inspection Service Bulletin ISB.53-182, dated March 16, 2005, except as required by paragraphs (i) and (k) of this AD.

Exceptions to Service Bulletin Specifications

(i) If BAE Systems (Operations) Limited Inspection Service Bulletin ISB.53-182, dated March 16, 2005, specifies to contact the manufacturer for appropriate action, before further flight, repair per a method approved by the Manager, International Branch, ANM-116, Transport Airplane Directorate, FAA; or the Civil Aviation Authority (or its delegated agent); or European Aviation Safety Agency (EASA) (or its delegated agent).

(j) Where BAE Systems (Operations) Limited Inspection Service Bulletin ISB.53-182, dated March 16, 2005, specifies a compliance time after the issuance of the service bulletin, this AD requires compliance within the specified compliance time after July 17, 2006 (the effective date of AD 2006-12-09). Where BAE Systems (Operations) Limited Inspection Service Bulletin ISB.53-182, dated March 16, 2005, specifies a compliance time “since date of construction” of the airplane, this AD requires compliance since the date of issuance of the original standard airworthiness certificate or the date of issuance of the original export certificate of airworthiness.

New Requirements of This AD

New Service Bulletin

(k) As of the effective date of this AD: Do the actions required by paragraphs (g) and (h) of this AD in accordance with the Accomplishment Instructions of BAE Systems (Operations) Limited Inspection Service Bulletin ISB.53-182, Revision 1, dated August 6, 2007, except as required by paragraph (n) of this AD.

Additional Inspection Areas

(l) At the applicable compliance time specified in paragraph (g) of this AD, except as provided by paragraph (o) of this AD; or within six months after the effective date of this AD; whichever occurs later: Do an HFEC inspection for corrosion of the outer frame flanges and door hinge bosses of frames 15, 18, 41, and 43, in accordance with the Accomplishment Instructions of BAE Systems (Operations) Limited Inspection Service Bulletin ISB.53-182, Revision 1, dated August 6, 2007 (“the service bulletin”). Repeat the inspection thereafter at the applicable time specified in paragraph 1.D., “Compliance,” of the service bulletin. Application of corrosion-preventive treatment, in accordance with the Accomplishment Instructions of the service bulletin, extends the repetitive inspection interval, as specified in Table 2 in paragraph 1.D., “Compliance,” of the service bulletin.

Corrective Action for Additional Inspection

(m) If any discrepancy is found during any inspection required by paragraph (l) of this AD: Before further flight, perform applicable related investigative/corrective actions in accordance with the Accomplishment Instructions of BAE Systems (Operations) Limited Inspection Service Bulletin ISB.53-182, Revision 1, dated August 6, 2007, except as required by paragraph (n) of this AD.

Exceptions to BAE Systems (Operations) Limited Inspection Service Bulletin ISB.53-182, Revision 1

(n) If BAE Systems (Operations) Limited Inspection Service Bulletin ISB.53-182, Revision 1, dated August 6, 2007, specifies to contact the manufacturer for appropriate action, before further flight, repair per a method approved by the Manager, International Branch, ANM-116, Transport Airplane Directorate, FAA; or EASA (or its delegated agent).

(o) Where BAE Systems (Operations) Limited Inspection Service Bulletin ISB.53-182, Revision 1, dated August 6, 2007, specifies a compliance time after the issuance of the service bulletin, this AD requires compliance within the specified compliance time after the effective date of this AD. Where BAE Systems (Operations) Limited Inspection Service Bulletin ISB.53-182, Revision 1, dated August 6, 2007, specifies a compliance time “since date of construction” of the airplane, this AD requires compliance since the date of issuance of the original airworthiness certificate or the date of issuance of the original export certificate of airworthiness.

No Reporting

(p) Although BAE Systems (Operations) Limited Inspection Service Bulletin ISB.53-182, dated March 16, 2005; and Revision 1, dated August 6, 2007; specify to submit information to the manufacturer, this AD does not include such a requirement.

Alternative Methods of Compliance (AMOCs)

(q) The Manager, International Branch, ANM-116, FAA, has the authority to approve AMOCs for this AD, if requested using the procedures found in 14 CFR 39.19. Send information to ATTN: Todd Thompson, Aerospace Engineer, International Branch, ANM-116, Transport Airplane Directorate, FAA, 1601 Lind Avenue, SW., Renton, Washington 98057-3356; telephone (425) 227-1175; fax (425) 227-1149. Before using any approved AMOC on any airplane to which the AMOC applies, notify your principal maintenance inspector (PMI) or principal avionics inspector (PAI), as appropriate, or lacking a principal inspector, your local Flight Standards District Office. The AMOC approval letter must specifically reference this AD.

Related Information

(r) European Aviation Safety Agency Airworthiness Directive 2008-0092 R1, dated May 15, 2008, also addresses the subject of this AD.

Material Incorporated by Reference

(s) You must BAE Systems (Operations) Limited Inspection Service Bulletin ISB.53-182, Revision 1, dated August 6, 2007; as applicable; to do the actions required by this AD, unless the AD specifies otherwise.

(1) The Director of the Federal Register approved the incorporation by reference of this service information under 5 U.S.C. 552(a) and 1 CFR part 51.

(2) For service information identified in this AD, contact BAE Systems Regional Aircraft, 13850 McLearen Road, Herndon, Virginia 20171; telephone 703-736-1080; e-mail raebusiness@baesystems.com; Internet http://www.baesystems.com/Businesses/RegionalAircraft/index.htm.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on June 2, 2009.
Stephen P. Boyd,
Acting Manager, Transport Airplane Directorate, Aircraft Certification Service.

[FR Doc. E9-13567 Filed 6-18-09; 8:45 am]

BILLING CODE 4910-13-P